DEPARTMENT OF STATE

[Public Notice 6659]

State-68, Office of the Coordinator for Reconstruction and Stabilization Records

SUMMARY: Notice is hereby given that the Department of State proposes to alter an existing system of records, Office of the Coordinator for Reconstruction and Stabilization Records, State-68, pursuant to the provisions of the Privacy Act of 1974, as amended (5 U.S.C. 552a) and Office of Management and Budget Circular No. A-130, Appendix I. The Department's report was filed with the Office of Management and Budget on June 5, 2009.

It is proposed that the current system will retain the name “Office of the Coordinator for Reconstruction and Stabilization Records.” It is also proposed that due to the expanded scope of current system, the altered system description will include revisions and/or additions to the following sections: Categories of Individuals Covered by the Systems, Categories of Records in the System, Purpose, Routine Uses of Records Maintained in the System, Safeguards, and Retrievability. Changes to the existing system description are proposed in order to reflect more accurately the Office of the Coordinator for Reconstruction and Stabilization Records participation in the Civilian Response Corp mission.

Any persons interested in commenting on the altered system of records may do so by submitting comments in writing to Margaret P. Grafeld, Director; Office of Information Programs and Services; A/GIS/IPS; Department of State, SA-2; 515 22nd Street, Washington, DC 20522-8001. This system of records will be effective 40 days from the date of publication, unless we receive comments that will result in a contrary determination.

The altered system description, “Office of the Coordinator for Reconstruction and Stabilization Records, State-68,” will read as set forth below.

Dated: June 5, 2009.
Steven J. Rodriguez,
Deputy Assistant Secretary for Operations, Bureau of Administration, Department of State.

STATE-68

SYSTEM NAME:

Office of the Coordinator for Reconstruction and Stabilization Records

SECURITY CLASSIFICATION:

Unclassified

SYSTEM LOCATION:

Department of State, SA-3, 2121 Virginia Avenue, NW., Washington, DC 20520.

CATEGORIES OF INDIVIDUALS COVERED BY THE SYSTEM:

Individuals who have been or will be involved in international Reconstruction and Stabilization activities and individuals who offer to participate in potential future overseas reconstruction and stabilization activities in a foreign deployment or in a management function based in Washington, DC, and/or in domestic training and civilian-military exercises.

AUTHORITY FOR MAINTENANCE OF THE SYSTEM:

Public Law 108-447, Div B, Title IV, § 408, 118 Stat. 2904 (Consolidated Appropriations Act, 2005).

CATEGORIES OF RECORDS IN THE SYSTEM:

Categories of records in this database system include: Name; social security number; date of birth; citizenship; contact information such as mailing addresses; e-mail, and/or phone numbers; passport number, date of expiration, place of issuance; driver's license number, date of expiration and state where issued; personnel's height; weight; hair color; eye color; blood type; language skills; military service, if any; prior related experience; security clearance status; medical clearance; inoculation/immunization record; and personal gear/clothing sizes.

PURPOSE:

The information in this system will be used to assist the Office of the Coordinator for Reconstruction and Stabilization to carry out its mandate to lead, coordinate, and institutionalize international reconstruction and stabilization activities of the U.S. Government.

The database shall be compiled and used to categorize and identify individuals from various U.S. Government Agencies to participate in Civilian Response Corps missions and other international Reconstruction and Stabilization activities.

ROUTINE USES OF RECORDS MAINTAINED IN THE SYSTEM, INCLUDING CATEGORIES OF USERS AND PURPOSES OF SUCH USES:

The information in the Office of the Coordinator for Reconstruction and Stabilization Records may be shared:

With any and all U.S. Government Agencies involved in Reconstruction and Stabilization operations (including, but not limited to: United States Agency for International Development, Department of Justice, Department of Homeland Security, Department of Commerce, Department of Agriculture, Department of Health and Human Services and Department of Treasury) in order to coordinate U.S. efforts in international Reconstruction and Stabilization, determine which members are available and best qualified for particular missions, and manage and select individuals who have been hired or agreed to deploy oversees in support of Reconstruction and Stabilization efforts of the U.S. Government;

With United Nations, NATO or similar international organizations, for the purpose of coordinating personnel engaged in specific Reconstruction and Stabilization activities;

With U.S. and NATO military installations for the purpose of sharing information necessary for security checks and to obtain access to military facilities, including manifesting on military aircraft;

In addition, the Department of State may disclose records from this system to entities outside the Department:

To provide other Federal agencies information needed in the performance of their official duties to support the functions for which the records were intended, i.e., reconstruction and stabilization activities;

To provide information to other Federal agencies, state governments, foreign governments and international organizations where employees are being considered for detail, assignment or secondment;

To disclose information to officials of foreign governments and other U.S. Government Agencies for clearance before a Federal employee is assigned to that country as well as for the procurement of necessary services for American personnel assigned overseas, such as permits of free entry and identity cards;

To provide information on employees for the benefit of these employees to attorneys, union representatives or other persons designated in writing by those employees who are the subject of the information to represent them in complaints, grievances, or other litigation;

The Department of State periodically publishes in the Federal Register its standard routine uses that applies to all its Privacy Act systems of records. These notices appear in the form of a Prefatory Statement. These standard routine uses apply to the Office of the Coordinator for Reconstruction and Stabilization Records, State-68.

POLICIES AND PRACTICES FOR STORING, RETRIEVING, ACCESSING, RETAINING AND DISPOSING OF RECORDS IN THE SYSTEM:

STORAGE:

Electronic media; hard copy.

RETRIEVABILITY:

Individual's name, designated specialty in international reconstruction and stabilization operations, international reconstruction and stabilization training, foreign language skills, and pertinent skills.

SAFEGUARDS:

All Department of State employees and contractors with authorized access have undergone a thorough background security investigation. All users are given information system security awareness training, including the procedures for handling Sensitive But Unclassified and personally identifiable information. Annual refresher training is mandatory. Before being granted access to Office of the Coordinator for Reconstruction and Stabilization Records, a user must first be granted access to Department of State computer systems.

Remote access to the Department of State network from non-Department owned systems is only authorized through a Department-approved access program. Remote access to the network is configured with Office of Management and Budget Memorandum M-07-16 security requirements of two factor authentication and time-out functions.

Access to the Department and its annexes is controlled by security guards, and admission is limited to those individuals possessing a valid identification card or individuals under proper escort. All records containing personal information are maintained in secured filing cabinets or in restricted areas, access to which is limited to authorized personnel. Servers are stored in Department of State secured facilities in cipher locked server rooms. Access to electronic files is password-protected and under the direct supervision of the system manager. The system manager has the capability of printing audit trails of access from the computer media, thereby permitting regular and ad hoc monitoring of computer usage.

RETENTION AND DISPOSAL:

These records will be maintained with published record disposition schedules of the Department of State as approved by the National Archives and Records Administration. More specific information may be obtained by writing to the Director, Office of Information Programs and Services, A/GIS/IPS, SA-2, Department of State, 515 22nd Street NW., Washington, DC 20522-8100.

SYSTEM MANAGER AND ADDRESS:

Office of the Coordinator for Reconstruction and Stabilization, Department of State, SA-3, 2121 Virginia Avenue NW., Washington, DC 20520.

NOTIFICATION PROCEDURE:

Individuals who have reason to believe that the Office of the Coordinator for Reconstruction and Stabilization might have records pertaining to them should write to the Director, Office of Information Programs and Services, A/GIS/IPS, SA-2, Department of State, 515 22nd Street NW., Washington, DC 20522-8100. The individual must specify that he or she wishes the records of the Office of the Coordinator for Reconstruction and Stabilization to be checked. At a minimum, the individual should include: Name; date and place of birth; current mailing address and zip code; signature; a brief description of the circumstances that caused the creation of the record (including the city and/or country and the approximate dates) which gives the individual cause to believe that the Office of the Coordinator for Reconstruction and Stabilization has records pertaining to him or her.

RECORD ACCESS AND AMENDMENT PROCEDURES:

Individuals who wish to gain access to, or to amend records pertaining to, themselves should write to the Director, Office of Information Programs and Services (address above).

RECORD SOURCE CATEGORIES:

These records contain information that is obtained from the individual who is the subject of the records.

SYSTEMS EXEMPTED FROM CERTAIN PROVISIONS OF THE ACT:

Pursuant to 5 U.S.C. 552a(k)(6) records in this system of records may be exempted from 5 U.S.C. 552a(c)(3), (d), (e)(l), (e)(4)(G), (H), and (I) and (f).

[FR Doc. E9-13877 Filed 6-11-09; 8:45 am]

BILLING CODE 4710-24-P